DEPARTMENT OF VETERANS AFFAIRS

[OMB Control No. 2900-0747]

Agency Information Collection Activity Under OMB Review: Application for Disability Compensation and Related Compensation Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0747.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0747” in any correspondence.

SUPPLEMENTARY INFORMATION:

Authority: Public Law 110-389 Section 221, 38 U.S.C. 5101.

Title: Application for Disability Compensation and Related Compensation Benefits (VA Form 21-526EZ).

OMB Control Number: 2900-0747.

Type of Review: Revision of a currently approved collection.

Abstract: VA Form 21-526EZ is used to collect the information needed to process a claim for disability compensation and related compensation benefits. Though, this form was initially created to be used to submit fully developed claims (FDC), it has evolved into a standard claim form to be used for any benefit associated with disability compensation: to include new or initial claims, reopened claims, and claims for increase.

The respondent burden for VA Form 21-526EZ has increased due to: the number of receivables averaged over the past year, general program changes—such as regulatory changes, and the continuing improvement of VA's electronic claims processing systems.

VA Form 21-526EZ has been updated, to include: new instructions associated with `The Sergeant First Class (SFC) Heath Robinson Honoring our Promise to Address Comprehensive Toxics (PACT) Act'; the GENDER question has been removed; a new Section IV: Exposure Information, including new PACT Act questions that identify toxic exposures the claimant may have been exposed to during service; and an `Addendum' has been added to provide additional space for disabilities if the claimant has more than the space provided in Section V: Claim Information.

An agency may not conduct or sponsor, and a person is not required to respond to a collection of information unless it displays a currently valid OMB control number. The Federal Register Notice with a 60-day comment period soliciting comments on this collection of information was published at 87 FR 40885 on July 8, 2022, pages 40885 and 40886.

Affected Public: Individuals or Households.

Estimated Annual Burden: 587,815.

Estimated Average Burden per Respondent: 17.5 minutes.

Frequency of Response: One time.

Estimated Number of Respondents: 2,015,367.

By direction of the Secretary.
Dorothy Glasgow,
VA PRA Clearance Officer, Office of Enterprise and Integration, Data Governance Analytics, Department of Veterans Affairs.

[FR Doc. 2022-21017 Filed 9-27-22; 8:45 am]

BILLING CODE 8320-01-P